DEPARTMENT OF COMMERCE

National Oceanic and Atmospheric Administration

50 CFR Part 648

[Docket No. 191002-0052]

RIN 0648-XH043

Fisheries of the Northeastern United States; Summer Flounder, Scup, Black Sea Bass, and Atlantic Bluefish Fisheries; 2020-2021 Specifications

AGENCY: National Marine Fisheries Service (NMFS), National Oceanic and Atmospheric Administration (NOAA), Commerce.

ACTION: Final rule.

SUMMARY: NMFS announces 2020 specifications for the summer flounder, scup, black sea bass, and bluefish fisheries and projects 2021 summer flounder specifications. The implementing regulations for these species' management requires us to publish specifications for the upcoming fishing year for each of these species. This action is intended to inform the public of the specifications for the start of the 2020 fishing year for these four species and announces the projected 2021 summer flounder specifications.

DATES: This rule is effective January 1, 2020.

ADDRESSES: An environmental assessment (EA) for the summer flounder specifications was prepared for this action that describes the measures and other considered alternatives, and provides an analysis of the impacts of the measures and alternatives. A Supplemental Information Report (SIR) was prepared for the scup, black sea bass, and bluefish specifications. Copies of the EA and SIR, are available on request from Dr. Christopher M. Moore, Executive Director, Mid-Atlantic Fishery Management Council, Suite 201, 800 North State Street, Dover, DE 19901. The EA is also accessible via the internet at http://www.mafmc.org/s/SF_2020-2021_specs_EA.pdf.

FOR FURTHER INFORMATION CONTACT: Emily Gilbert, Fishery Policy Analyst, (978) 281-9244.

SUPPLEMENTARY INFORMATION:

General Background

The Mid-Atlantic Fishery Management Council (Council) and the Atlantic States Marine Fisheries Commission (Commission) cooperatively manage the summer flounder, scup, black sea bass, and bluefish fisheries. The Summer Flounder, Scup, and Black Sea Bass Fishery Management Plan (FMP) and Atlantic Bluefish FMP outline the Council's process for establishing specifications. The FMPs require the specification of the acceptable biological catch (ABC), annual catch limit (ACL), annual catch targets (ACT), commercial quotas, recreational harvest limit, and other management measures, for up to 3 years at a time. This action establishes summer flounder specifications for the 2020-2021 fishing years and also sets interim scup, black sea bass, and bluefish 2020 specifications that will be replaced early in the fishing year to address results of operational stock assessments for all three species. These specifications are consistent with the recommendations made by the Council and Commission at the March 2019 joint meeting.

Interim 2020 Scup, Black Sea Bass, and Bluefish Specifications

There is no regulatory mechanism to roll over catch and landings limits from one year to the next in these FMPs, so this action is required to set these limits for the start of 2020. This action maintains the same 2019 specifications for the start of the 2020 fishing year (Table 1), consistent with the recommendations from the Council's Scientific and Statistical Committee (SSC) and the Council and the species-specific Commission Boards. These catch limits are expected to be in place for the first few months of 2020 and will be revised as soon as possible to address the results of operational stock assessments for all three species. The results of the assessments recently became available and the Council and Boards plan on recommending revised 2020 and considering 2021 specifications for all three species at a joint October 2019 meeting.

Prior to the start of the 2020 fishing year, we will announce any adjustments necessary to account for any previous overages or, in the case of bluefish, any commercial/recreational sector transfers. The initial commercial scup quota allocations for 2020 by quota period are outlined in Table 2.

Table 1—Interim 2020 Specifications for Scup, Black Sea Bass, and Bluefish
| Scup: million lb | Scup: mt | Black sea bass: million lb | Black sea bass: mt | Bluefish: million lb | Bluefish: mt
Overfishing Limit (OFL) | 41.03 | 18,612 | 10.29 | 4,667 | 29.97 | 12,688
ABC | 36.43 | 16,525 | 8.94 | 4,055 | 21.81 | 9,895
ACL | 36.43 | 16,525 | 8.94 | 4,055 | 21.81 | 9,895
Commercial ACL | 28.42 | 12,890 | 4.35 | 1,974 |  |
ACT | 28.42 | 12,890 | 4.35 | 1,974 | 3.71 | 1,682
Commercial Quota | 23.98 | 10,879 | 3.52 | 1,596 | 7.71 | 3,497
Recreational ACL | 8.01 | 3,636 | 4.59 | 2,083 |  |
Recreational ACT | 8.01 | 3,636 | 4.59 | 2,083 | 18.11 | 8,213
Recreational Harvest Limit | 7.37 | 3,342 | 3.66 | 1,661 | 11.62 | 5,271

Table 2—Initial Commercial Scup Quota Allocations for 2020 by Quota Period
Quota period | Percent share | lb | mt
Winter I | 45.11 | 10,820,000 | 4,908
Summer | 38.95 | 9,340,986 | 4,237
Winter II | 15.94 | 3,822,816 | 1,734
Total | 100.0 | 23,983,802 | 10,879
Note: Metric tons are converted from lb and may not necessarily total due to rounding.

Summer Flounder 2020-2021 Specifications

In February 2019, the final peer review and assessment results from the 66th Stock Assessment Workshop/Stock Assessment Review Committee (SAW/SARC 66) became available. This assessment incorporated revised Marine Recreational Information Program estimates of recreational catch, which has an important impact on estimated spawning stock biomass for summer flounder. Based on the results of this benchmark assessment, the summer flounder stock is not overfished, and overfishing is not occurring.

The Council's SSC and the Summer Flounder Monitoring Committee met in late February 2019 to recommend revised catch and landings limits for 2019 through 2021 based on the assessment information, which the Council adopted. Due to the need to implement revised 2019 specifications as soon as possible, we published an interim final rule on May 17, 2019 (84 FR 22392), adjusting the catch limits for the remainder of the 2019 fishing year. This rule implements the 2020 specifications and announces the projected 2021 specifications (Table 3). The 2020 and 2021 specifications are identical to what is currently in place for 2019.

Table 4 outlines the initial 2020 state-by-state summer flounder allocations. Prior to the start of each fishing year, we will announce any adjustments necessary to address any overages and to provide the states with their specific quotas. We anticipate announcing any such adjustments in December 2019.

Table 3—Summary of 2020-2021 Summer Flounder Fishery Specifications, in Millions of Pounds
| million lb | mt
OFL | 30.94 (2020) 31.67 (2021) | 14,034 (2020) 14,365 (2021)
ABC | 25.03 | 11,354
Commercial ACL | 13.53 | 6,136
Commercial ACT | 13.53 | 6,136
Commercial Quota | 11.53 | 5,229
Recreational ACL | 11.51 | 5,218
Recreational ACT | 11.51 | 5,218
Recreational Harvest Limit | 7.69 | 3,486

Table 4—Initial 2020 Summer Flounder State-by-State Allocations
State | FMP percent share | Initial 2020 quotas *: lb | Initial 2020 quotas *: kg
ME | 0.0476 | 5,484 | 2,487
NH | 0.0005 | 53 | 24
MA | 6.8205 | 786,399 | 356,705
RI | 15.6830 | 1,808,248 | 820,207
CT | 2.2571 | 260,241 | 118,043
NY | 7.6470 | 881,698 | 399,931
NJ | 16.7250 | 1,928,391 | 874,704
DE | 0.0178 | 2,051 | 930
MD | 2.0391 | 235,108 | 106,643
VA | 21.3168 | 2,457,822 | 1,114,850
NC | 27.4458 | 3,164,505 | 1,435,395
Total | 100.00 | 11,530,000 | 5,229,920
* Initial quotas do not account for any previous overages.

This action makes no changes to the current commercial management measures, including the minimum fish size (14-inch (36-cm) total length), gear requirements, and possession limits. The 2020 recreational management measures will be considered in the late fall of 2019.

Comments and Responses

NMFS received one comment on the proposed rule from the State of New York and the New York State Department of Environmental Conservation. The letter stated that the 2020 and 2021 specifications will be applied to outdated state quota share percentages, and NMFS should instead implement a coastwide quota. The comment is identical to what was submitted during public comment on the 2019 summer flounder specifications, and our response remains the same. The current regulations governing the FMP require that quota allocations be distributed based on the percentages outlined in Table 4. Adjustments to these quota allocations must be developed through an amendment to the FMP. The Council and Board took final action on an amendment considering such adjustments at their March 2019 meeting and will forward their recommendations to NMFS for Secretarial review and approval later this fall. Adjustments to these state quota allocations are outside the scope of this specifications action and will be addressed in the rulemaking for the amendment.

Classification

Pursuant to section 304(b)(1)(A) of the Magnuson-Stevens Fishery Conservation and Management Act, the NMFS Assistant Administrator has determined that this final rule is consistent with the Summer Flounder, Scup, and Black Sea Bass FMP, Atlantic Bluefish FMP, other provisions of the Magnuson-Stevens Act, and other applicable laws.

This final rule is exempt from NOAA's Office of Management and Budget Review under Executive Order 12866.

The Chief Counsel for Regulation of the Department of Commerce certified to the Chief Counsel for Advocacy of the Small Business Administration during the proposed rule stage that this action would not have a significant economic impact on a substantial number of small entities. The factual basis for the certification was published in the proposed rule and is not repeated here. No comments were received regarding this certification, and the initial certification remains unchanged. A final regulatory flexibility analysis is not required and none has been prepared.

There are no new reporting or recordkeeping requirements contained in this action.

Authority: 16 U.S.C. 1801 et seq.

Dated: October 2, 2019.
Samuel D. Rauch III,
Deputy Assistant Administrator for Regulatory Programs, National Marine Fisheries Service.

[FR Doc. 2019-21828 Filed 10-8-19; 8:45 am]

BILLING CODE 3510-22-P